DEPARTMENT OF ENERGY

Federal Energy Regulatory Commission

[Docket No. RP03-392-001]

Dominion Cove Point LNG, LP.; Notice of Compliance Filing

May 23, 2003.

Take notice that on May 20, 2003, Dominion Cove Point LNG, LP (Cove Point) tendered for filing as part of its FERC Gas Tariff, Original Volume No. 1, Substitute Second Revised Sheet No. 228, with an effective date of June 1, 2003.

On May 1, 2003, Dominion Cove Point submitted a filing in the above-referenced docket to place into effect pro forma tariff sheets approved by the Commission in its order of February 27, 2003 in Docket No. CP01-76-000, et al., 102 FERC ¶ 61,227. Dominion Cove Point states that they subsequently discovered that proposed Second Revised Sheet No. 228 had a typographical error in that the Btu content in 8.(d) appears as 1,065 rather than 1,100 as approved in the pro forma tariff sheets submitted to the Commission in the Amendment to the January 2001 Settlement and the Stipulation and Agreement on October 24, 2002.

Any person desiring to protest said filing should file a protest with the Federal Energy Regulatory Commission, 888 First Street, NE., Washington, DC 20426, in accordance with ¶ 385.211 of the Commission's Rules and Regulations. All such protests must be filed in accordance with ¶ 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 2, 2003.

Magalie R. Salas,
Secretary.

[FR Doc. 03-13625 Filed 5-30-03; 8:45 am]

BILLING CODE 6717-01-P